DEPARTMENT OF TRANSPORTATION

Office of the Secretary

Notice of Applications for Certificates of Public Convenience and Necessity and Foreign Air Carrier Permits Filed Under Subpart B (Formerly Subpart Q) During the Week Ending May 25, 2007

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2007-28325.

Date Filed: May 23, 2007.

Due Date for Answers, Conforming Applications, or Motion to Modify Scope: June 13, 2007.

Description: Application of Joint Stock Company Vladivostok Air (Vladivostok Air) requesting an exemption and a foreign air carrier permit authorizing it to engage in scheduled foreign air transportation of persons, property and mail between a point or points in the Russian Federation, on the one hand, and the coterminal points Anchorage, Alaska and Seattle, Washington, on the other hand, via intermediate points. Vladivostok Air further requests that its exemption and permit authorize it to engage in charter foreign air transportation of persons, property and mail between any point or points in the Russian Federation and any point or points in the United States, and to conduct other charter trips in foreign air transportation.

Docket Number: OST-2007-28326.

Date Filed: May 23, 2007.

Due Date for Answers, Conforming Applications, or Motion to Modify Scope: June 13, 2007.

Description: Application of Air Alsie A/S (Air Alsie) requesting a foreign air carrier permit to engage in (i) Scheduled and charter foreign air transportation of persons and property between any point or points in Denmark and any point or points in the United States coextensive with the rights provided under the U.S.-Denmark Air Transport Agreement, (ii) effective March 30, 2008, foreign air transportation of persons and property between any point or points in a Member State of the European Union and any point or points in the United States coextensive with the rights provided under the U.S.-EC Air Transport Agreement, (iii) effective March 30, 2008, foreign air transportation of persons and property between any point or points in any member of the European Common Aviation Area and any point or points in the United States coextensive with the rights provided under the U.S.-EC Air Transport Agreement, and (iv) other charter transportation. Air Alsie further requests a corresponding exemption enabling it to provide the service described above pending issuance of a foreign air carrier permit.

Renee V. Wright,
Program Manager, Docket Operations, Federal Register Liaison.

[FR Doc. E7-11250 Filed 6-8-07; 8:45 am]

BILLING CODE 4910-9X-P